DEPARTMENT OF ENERGY

Federal Energy Regulatory Commission

[Docket No. EL04-124-000]

Southern Company Services, Inc.; Notice of Initiation of Proceeding and Refund Effective Date

December 21, 2004.

On December 17, 2004, the Commission issued an order in the above-docketed proceeding. The Commission's order institutes a proceeding in Docket No. EL04-124-000 under section 206 of the Federal Power Act with respect to the justness and reasonableness of Southern Company Services, Inc.'s market-based rates.¹

¹ The Commission's December 17, 2004 Order stated that Southern Company Services, Inc. acts as agent for Alabama Power Company, Georgia Power Company, Gulf Power Company, Mississippi Power Company, Savannah Electric and Power Company, and Southern Power Company. 109 FERC ¶ 61,275 at P 1.

The refund effective date in Docket No. EL04-124-000, established pursuant to section 206(b) of the Federal Power Act will be 60 days following publication of this notice in the Federal Register.

Magalie R. Salas,
Secretary.

[FR Doc. E4-3843 Filed 12-28-04; 8:45 am]

BILLING CODE 6717-01-P